FEDERAL RESERVE SYSTEM

Agency Information Collection Activities: Announcement of Board Approval Under Delegated Authority and Submission to OMB

SUMMARY: Background. Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Board Clearance Officer—Cynthia Ayouch—Division of Research and Statistics, Board of Governors of the Federal Reserve System, Washington, DC 20551 (202-452-3829).

OMB Desk Officer—Shagufta Ahmed—Office of Information and Regulatory Affairs, Office of Management and Budget, New Executive Office Building, Room 10235, Washington, DC 20503.

Final Approval Under OMB Delegated Authority of the Extension for Three Years, Without Revision, of the Following Report

Report title: Reporting and Disclosure Requirements Associated with Regulation P.

Agency form number: Reg P.

OMB control number: 7100-0294.

Frequency: Reporting, on occasion; and disclosure, annually.

Reporters: State member banks, subsidiaries of state member banks, bank holding companies and their subsidiaries or affiliates, branches and agencies of foreign banks, commercial lending companies owned or controlled by foreign banks, corporations operating under section 25 or 25A of the Federal Reserve Act, and customers of these financial institutions.

Estimated annual number of institution respondents: Initial notice, 185; annual notice and revised notice, 6,735; opt-out notice, 1,235.

Estimated average time per response per institution: Initial notice, 80 hours; annual notice and revised notice, 8 hours; opt-out notice, 8 hours.

Estimated subtotal annual burden hours for institutions: 78,560 hours.

Estimated annual number of consumer respondents: 442,225.

Estimated average time per consumer response: 30 minutes.

Estimated subtotal annual burden hours for consumers: 221,113 hours.

Estimated total annual burden hours: 299,673 hours.

General description of report: This information collection is mandatory pursuant to section 504 of Gramm-Leach-Bliley Act (GLBA) (15 U.S.C. 6804). Since the Federal Reserve does not collect any information, no issue of confidentiality normally arises.

Abstract: The information collection pursuant to Regulation P is triggered by the establishment of a relationship between a customer and a financial institution. The regulation ensures that financial institutions provide customers notice of the privacy policies and practices of financial institutions and a means to prevent the disclosure of nonpublic personal information, in certain circumstances. Where applicable, financial institutions are required to provide an initial notice and an annual notice of their privacy policies and practices, opt-out notices, and revised notices containing changes in policies and procedures.

Current Actions: On May 20, 2009, the Federal Reserve published a notice in the Federal Register (74 FR 23717) requesting public comment for 60 days on the extension, without revision, of this information collection. The comment period for this notice expired on July 20, 2009. No comments were received.

Board of Governors of the Federal Reserve System, July 22, 2009.
Robert deV. Frierson,
Deputy Secretary of the Board.

[FR Doc. E9-17878 Filed 7-27-09; 8:45 am]

BILLING CODE 6210-01-P